LIBRARY OF CONGRESS

Copyright Office

37 CFR Part 260

[Docket No. 96-5 CARP DSTRA]

Determination of Reasonable Rates and Terms for the Digital Performance of Sound Recordings

AGENCY: Copyright Office, Library of Congress.

ACTION: Proposed rule; extension of comment period.

SUMMARY: The Copyright Office is extending the period to file comments to proposed regulations that will govern the RIAA collective when it functions as the designated agent receiving royalty payments and statements of accounts from nonexempt, subscription digital transmission services which make digital transmissions of sound recordings under the provisions of section 114 of the Copyright Act.

DATES: Comments and Notices of Intent to Participate in a Copyright Arbitration Royalty Panel Proceeding are due no later than September 28, 2001.

ADDRESSES: An original and five copies of any comment and Notice of Intent to Participate shall be delivered to: Office of the General Counsel, Copyright Office, James Madison Building, Room LM-403, First and Independence Avenue, SE., Washington, DC; or mailed to: Copyright Arbitration Royalty Panel (CARP), P.O. Box 70977, Southwest Station, Washington, DC 20024-0977.

FOR FURTHER INFORMATION CONTACT: David O. Carson, General Counsel, or Tanya M. Sandros, Senior Attorney, Copyright Arbitration Royalty Panel, P.O. Box 70977, Southwest Station, Washington, DC 20024. Telephone: (202) 707-8380. Telefax: (202) 252-3423.

SUPPLEMENTARY INFORMATION: On July 23, 2001, the Copyright Office published a notice of proposed rulemaking seeking comments on proposed regulations that will govern the RIAA collective when it functions as the designated agent receiving royalty payments and statements of accounts from nonexempt, subscription digital transmission services which make digital transmissions of sound recordings under the provisions of section 114 of the Copyright Act. 66 FR 38226 (July 23, 2001). Comments on the proposed terms and Notices of Intent to Participate in a Copyright Arbitration Royalty Panel Proceeding, the purpose of which would be to adopt terms governing the RIAA collective in its handling of royalty fees collected from the subscription services, were due on August 22, 2001.

On August 22, 2001, The American Federation of Musicians of the United States and Canada (“AFM”) and The American Federation of Television and Radio Artists (“AFTRA”) filed a request for an extension of the filing date for comments until September 19, 2001. The Office granted this request and extended the deadline for filing comments to September 19, 2001, 66 FR 46250 (September 4, 2001).

On September 14, 2001, AFM and AFTRA requested a further extension of the filing date for comments in light of the events of September 11, 2001, and stated that the RIAA joined in the request. The Office is granting this request and is extending the filing date for comments until September 28, 2001. There will be no further extensions of the filing date for comments in this proceeding.

Dated: September 18, 2001.
David O. Carson,
General Counsel.

[FR Doc. 01-23687 Filed 9-20-01; 8:45 am]

BILLING CODE 1410-33-P